DEPARTMENT OF COMMERCE

National Oceanic and Atmospheric Administration

RIN 0648-XD162

Endangered Species; File No. 18029

AGENCY: National Marine Fisheries Service (NMFS), National Oceanic and Atmospheric Administration (NOAA), Commerce.

ACTION: Notice; issuance of permit.

SUMMARY: Notice is hereby given that Tasha L. Metz, Ph.D., Texas A&M University at Galveston, Department of Marine Biology, P.O. Box 1675, Galveston, TX 77551 has been issued a permit to take loggerhead (Caretta caretta), green (Chelonia mydas), Kemp's ridley (Lepidochelys kempii), and hawksbill (Eretmochelys imbricata) sea turtles for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa González or Amy Hapeman, (301) 427-8401.

SUPPLEMENTARY INFORMATION: On March 12, 2014, notice was published in the Federal Register (79 FR 13991) that a request for a scientific research permit to take sea turtles had been submitted by the above-named individual. The requested permit has been issued under the authority of the Endangered Species Act of 1973, as amended (ESA; 16 U.S.C. 1531 et seq.) and the regulations governing the taking, importing, and exporting of endangered and threatened species (50 CFR parts 222-226).

Permit No. 18029 authorizes Dr. Metz to capture loggerhead, green, Kemp's ridley, and hawksbill sea turtles using nets to continue studying relative abundance, distribution, habitat use, and health status of the above sea turtle species in estuarine and nearshore waters in the northwestern Gulf of Mexico particularly off Texas and Louisiana. Visual surveys by vessel may also be performed. Captured turtles would be examined, biologically sampled, and tagged prior to release. A select number may be outfitted with satellite transmitters to track movements post-release. The permit expires on May 31, 2021.

Issuance of this permit, as required by the ESA, was based on a finding that such permit (1) was applied for in good faith, (2) will not operate to the disadvantage of such endangered or threatened species, and (3) is consistent with the purposes and policies set forth in section 2 of the ESA.

Dated: May 23, 2016.
Julia Harrison,
Chief, Permits and Conservation Division, Office of Protected Resources, National Marine Fisheries Service.

[FR Doc. 2016-12445 Filed 5-25-16; 8:45 am]

BILLING CODE 3510-22-P